FEDERAL MARITITME COMMISSION

Notice of Agreement Filed

The Commission hereby gives notice of the filing of the following agreement under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011488-002.

Title: CSAV/Lauritzen Reefers Space Charter Agreement.

Parties: CSAV Sud Americana de Vapores S.A. and LauritzenCool AB.

Filing Party: Wayne R. Rohde, Esq., Sher & Blackwell LLP, 1850 M Street, NW., Suite 900, Washington, DC 20036.

Synopsis: The amendment changes LauritzenCool AB to NYKLauritzenCool AB in the agreement, changes the agreement name, and republishes the agreement.

Dated: October 14, 2005.
By Order of the Federal Maritime Commission.
Karen V. Gregory,
Assistant Secretary.

[FR Doc. 05-20914 Filed 10-18-05; 8:45 am]

BILLING CODE 6730-01-P